DEPARTMENT OF THE INTERIOR

UTAH RECLAMATION MITIGATION AND CONSERVATION COMMISSION

[RC0ZCUPCA0, 155R0680R1, RR.17549897.2015101.02]

Notice of Availability of the Records of Decision for the Provo River Delta Restoration Project

AGENCY: Office of the Assistant Secretary for Water and Science, Interior; Utah Reclamation Mitigation and Conservation Commission.

ACTION: Notice.

SUMMARY: The Department of the Interior and the Utah Reclamation Mitigation and Conservation Commission have prepared separate Records of Decision (RODs) that disclose their selection of Alternative B for implementing the restoration of the Provo River Delta as described in the Provo River Delta Restoration Project (PRDRP) Final Environmental Impact Statement (FEIS). Both agencies have also selected to implement Option 2 for the improvement of the existing Provo River Channel. The size of Alternative B may be increased by acquiring additional land described under Alternative A. However, such additional land acquisition will only be accomplished if the additional land can be acquired on a willing-seller basis. Therefore, a potentially enlarged Alternative B (the Preferred Alternative) and Option 2 are adopted as the Selected Action. The implementation of Alternative B as potentially modified and Option 2 will significantly aid in meeting recovery actions within the approved June Sucker Recovery Plan of 1999.

DATES: The Department of the Interior and the Utah Reclamation Mitigation and Conservation Commission signed separate RODs on May 26, 2015 and subsequently made them available to the public.

ADDRESSES: Send written correspondence or requests for copies to Mr. W. Russ Findlay, Department of the Interior, Central Utah Project Completion Act Office, 302 East 1860 South, Provo, Utah 846060-7317; or Mr. Richard Mingo, Utah Reclamation Mitigation and Conservation Commission, 230 South 500 East Suite 230, Salt Lake City, Utah 84102; or by email to wfindlay@usbr.gov or rmingo@usbr.gov. The RODs are accessible at the following Web sites: www.cupcao.gov, www.provoriverdelta.us, www.mitigationcommission.gov. See the SUPPLEMENTARY INFORMATION section for locations where copies of the RODs are available for public review.

FOR FURTHER INFORMATION CONTACT: Mr. W. Russ Findlay, 801-379-1084, wfindlay@usbr.gov; or Mr. Richard Mingo, 801-524-3146, rmingo@usbr.gov.

SUPPLEMENTARY INFORMATION:

Background

The Department of the Interior's Record of Decision for the Diamond Fork System Final Supplement to the Diamond Fork Power System Final Environmental Impact Statement, signed September 29, 1999, commits the Department of the Interior, Utah Reclamation Mitigation and Conservation Commission, and the Central Utah Water Conservancy District to “. . . participate in the development of a Recovery Implementation Program for June sucker.” Moreover, “. . . [a]ny future development of the Bonneville Unit of CUP [Central Utah Project] will be contingent on the RIP [June Sucker Recovery Implementation Program (JSRIP)] making `sufficient progress' towards recovery of June sucker.” The Utah Reclamation Mitigation and Conservation Commission signed its own Record of Decision for the Diamond Fork System Project on November 19, 1999. The JSRIP was established in 2002, and the Joint Lead Agencies are participants. The goals of the JSRIP are twofold, to recover June sucker so that it no longer requires protection under the Endangered Species Act and allow continued operation of existing water facilities and future development of water resources for human uses within the Utah Lake Basin in Utah.

The June sucker exists naturally only in Utah Lake and spawns primarily in the lower Provo River, a Utah Lake tributary. Monitoring indicates young June sucker hatching in the lower Provo River do not survive to the adult stage due to habitat inadequacies in the lower Provo River and its interface with Utah Lake related to flow, food supply, and shelter. A compounding factor is likely predation by nonnative fishes. Dredging and channelization for flood control has eliminated the shallow, warm, complex wetland habitat at the mouth of the Provo River where it enters Utah Lake.

The Federal Action

The PRDRP will restore the lower Provo River to a more natural deltaic ecosystem. The delta and associated habitat will provide needed habitat for the recovery of the endangered June sucker. These improvements will be accomplished through the implementation of Alternative B and Option 2 as analyzed in the PRDRP FEIS plus the option to increase the size of Alternative B by acquiring additional land described under Alternative A only if the additional land can be acquired on a willing-seller basis.

Purpose and Need for Action

The PRDRP has been identified as an essential action needed to recover the endangered June sucker. It will restore functional habitat conditions in the lower Provo River and its interface with Utah Lake that are needed for spawning, hatching, larval transport, survival, rearing and recruitment of young June sucker into the population on a self-sustaining basis.

The purposes of the PRDRP are to:

• Implement the specific criteria of the June Sucker Recovery Plan to restore a naturally functioning Provo River delta ecosystem essential for recruitment of June sucker;

• provide recreational improvements and opportunities associated with the PRDRP; and

• adopt flow regime targets for the lower Provo River and provide delivery of supplemental water to the lower Provo River, including additional conserved water.

Alternative B—Provo River Delta Restoration

Alternative B was developed with substantial involvement from study area landowners and other stakeholders. It is the selected alternative for restoring the Provo River Delta. It will reduce the amount of private land required for the PRDRP and preserve the highest-value agricultural land, while still improving June sucker spawning and rearing habitat. The acquisition boundary for this alternative encompasses 310.3 acres. As previously described in this NOA, lands in addition to the minimum required under Alternative B could be acquired on a willing-seller basis, either in conjunction with Alternative B or at a later time. Implementing Alternative B as described in the Final EIS would result in splitting of three or more contiguous land ownerships/agricultural operations. It is possible that landowners may request as condition of sale of their property the acquisition of some or all of the remaining properties outside the delineated Alternative B boundary. Other landowners may also have interest in selling their land to the government for the project. Only if these agreements can be achieved on a willing-seller basis would they be consummated. Such lands could be acquired to enhance the habitat values for June sucker, to preserve habitat values for other wildlife or wetlands, or to provide additional related recreational opportunities.

Option 2—Provo River Existing Channel Improvement

Option 2 will be implemented along with Alternative B above. Option 2 will maintain the existing channel at a relatively constant elevation by constructing a small dam at the downstream mouth of the channel near Utah Lake State Park. An aeration system will be installed and operated as necessary to improve water quality. A minimum flow of 10 cubic feet per second will be provided to the existing Provo River channel which will be retained and managed for recreational and aesthetic purposes.

A Notice of Availability of the Draft Environmental Impact Statement (DEIS) for the PRDRP was published in the Federal Register on February 28, 2014 (79 FR 11511). A Notice of Availability of the PRDRP FEIS was published in the Federal Register on April 8, 2015 (80 FR 18940).

Copies of the RODs are available for public review at:

• Department of the Interior, Central Utah Project Completion Act Office, 302 East 1860 South, Provo, Utah 84606-7317

• Utah Reclamation Mitigation and Conservation Commission, 230 South 500 East Suite 230, Salt Lake City, Utah 84102

Dated: June 8, 2015.
Reed R. Murray,
Program Director, Central Utah Project Completion Act Office, Department of the Interior.
Dated: June 8, 2015.
Mark Holden,
Executive Director, Utah Reclamation Mitigation and Conservation Commission.

[FR Doc. 2015-16600 Filed 7-6-15; 8:45 am]

BILLING CODE 4332-90-P